DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of July 2000.

In order for an affirmative determination to be made and a certification of eligibility to apply for worker adjustment assistance to be issued, each of the group eligibility requirements of section 222 of the Act must be met:

(1) That a significant number or proportion of the workers in the workers' firm, or an appropriate subdivision, thereof, have become totally or partially separated;

That sales or production, or both, of the firm or subdivision have decreased absolutely; and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-37,403; R. Daye Limited, New York, NY

TA-W-37,596; The Bethlehem Corp., Easton, PA

In the following cases, the investigation revealed that the criteria for eligibility have not been met for the reasons specified.

TA-W-37,837; American General Assurance Co., Reading, PA

TA-W-37,763; Destination Film Distribution Co., Inc., Wheelman Products, Santa Monica, CA

TA-W-37,762; Hearst Entertainment, King Telpro Productions, Los Angeles, CA

TA-W-37,623; Lear Corp., Mold and die Shop, El Paso, TX

TA-W-37,836; Shenandoah Rag Co., Inc., Shenandoah, PA

The workers firm does not produce an article as required for certification under Section 222 of the Trade Act of 1974.

TA-W-37,631; Celestica Corp., Campton, KY

TA-W-37,522; INX International Ink Co., Warminster, PA

TA-W-37,757; Cutler-Hammer, Crane Transportation & Resistors, Milwaukee, WI

TA-W-37,868; American Meter Co., Erie, PA

TA-W-37,560; Honeywell International, Speciality Chemicals, Commercial Roofing Systems, Ironton, OH

TA-W-37,706; Fruit of The Loom, Sports and Licensing Div., Salem Sportswear, Inc., Frankfort, KY

TA-W-37,750; Acme Steel Co., Riverdale, IL

TA-W-37,493; Levi Strauss and Co., RMQ Lab, Pelicano Finishing Plant, El Paso, TX

Increased imports did not contribute importantly to worker separations at the firm.

TA-W-37,802; Lydal-Westex, Hamptonville, NC

The investigation revealed that criteria (2) has not been met. Sales or production, or both, did not decline during the relevant period as required for certification.

Affirmative Determinations For Worker Adjustment Assistance

The following certifications have been issued; the date following the company name and location of each determination references the impact date for all workers of such determination.

TA-W-37,852; Southwest Cupid Corp., Hominy, OK: June 15, 1999.

TA-W-37,523 & A; Sangamon, Inc., Taylorville, IL and Moultrie, GA: March 17, 1999.

TA-W-37,669, Wheeling-Labelle Nail Co., Wheeling, WV: May 2, 1999.

TA-W-37,433; Smithville Sportswear, including Workers of Skilstaf, Inc., Smithsville, TN: February 24, 1999.

TA-W-37,822; Kalkstein Silk Mills, Inc., Paterson, NJ: May 25, 1999.

TA-W-37,739; Applied Sewing Resources, Inc., Orland, CA: May 20, 1999.

TA-W-37,791; Erie Controls, Milwaukee, WI: May 19, 1999.

TA-W-37,602; Wil-Gro Fertilizer, Inc., Pryor, OK: April 3, 1999.

TA-W-37,667; AMF Reece, Inc., Mechanicsville, VA: April 6, 1999.

TA-W-37,813; Seton Co., Leather Div, Saxton, PA: June 5, 1999.

TA-W-37,862; K & R Sportswear, Spring Hope, NC: July 21, 1999.

TA-W-37,675; Hagale Industries, Inc., Salem MO: April 26, 1999.

TA-W-37,711; Dana Epic Technical Group, Fluid Systems Products, Kendallville, IN: May 5, 1999.

TA-W-37,771; A & B Dallco Industries, Inc., York, PA; Dalta, PA; and Spring Run, PA: May 31, 1999.

TA-W-37,641; Jo-B's, Inc., Frisco City, AL: April 23, 1999.

TA-W-37,806; W.E. Bassett Co., Derby, CT: June 9, 1999.

TA-W-37,691 & A; Four Seasons Apparel Co., Murfreesboro, NC and Sanford, NC: May 5, 1999.

TA-W-37,642; Zeller Corp., Defiance, OH: April 24, 1999.

TA-W-37,510; Cliftex Corp., New Bedford, MA: March 13, 1999.

TA-W-37,627; Bari Manufacturing Co., Inc., Passaic, NJ: April 10, 1999.

TA-W-37,677; Wheaton USA, Inc., Decora Operations, Pennsville, NJ: April 18, 1999.

TA-W-37,636; Voyager Emblems, Inc., Sanborn, NY: April 19, 1999.

TA-W-37,655; Cassie Cotillion, Albemarle, NC: April 17, 1999.

TA-W-37,699; Invensys Appliance Controls, Independence, VA: May 4, 1999.

TA-W-37,644; Ranco North America, Plain City, OH: May 1, 1999.

TA-W-37,814; Allied Signal, Honeywell, Inc., Torrance, CA: June 8, 1999.

TA-W-37,803; MNCO, LLC (Formerly McGuire-Nicholas Co. LLC), Commerce, CA: May 23, 1999.

TA-W-37,845; Sims Deltec, Inc., St. Paul, MN: June 15, 1999.

TA-W-37,770; H. H. Rosinsky Co., Inc., Philadelphia, PA: May 30, 1999.

TA-W-37,865; ITT Industries, Fluid Handling Systems, Tawas City, MI: June 24, 1999.

TA-W-37,838; Colorado Biomedical, Inc., Evergreen, CO: June 14, 1999.

Also, pursuant to Title V of the North American Free Trade Agreement Implementation Act (P.L. 103-182) concerning transitional adjustment hereinafter called (NAFTA-TAA) and in accordance with section 250(a), Subchapter D, Chapter 2, Title II, of the Trade Act as amended, the Department of Labor presents summaries of determinations regarding eligibility to apply for NAFTA-TAA issued during the month of July, 2000.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such wokers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-03977; Eagle River Knits, Inc., Monroe, NC

NAFTA-TAA-03925; Applied Sewing Resources, Inc., Orland, CA

NAFTA-TAA-03721; Rockwell Automation, Euclid Plant, Euclid, OH

NAFTA-TAA-03802; Levi Strauss & Co., RMQ Lab, Pelicano Finishing Plant, El Paso, TX

NAFTA-TAA-03940; Fruit of the Loom, Sports and Licensing Div., Salem Sportswear, Inc., Frankfort, KY

NAFTA-TAA-03996; Federal Mogul Corp., Milan, MI

The investigation revealed that the criteria for eligibility have not been met for the reasons specified.

NONE

Affirmative Determinations NAFTA-TAA

NAFTA-TAA-03990; Collins Pine Co., Collins Products, LLC, Klamath Falls, OR: June 23, 2000.

NAFTA-TAA-03995; John Manville International, Inc., Roofing Systems Group, Saco, ME: June 29, 1999.

NAFTA-TAA-04002; American Meter Co., Erie, PA: June 26, 1999.

NAFTA-TAA-03877; Erie Controls, Milwaukee, WI: April 26, 1999.

NAFTA-TAA-03976; The Raleigh Co., Div. of I.C. Isaacs & Co., Inc., Raleigh, MS: June 8, 1999.

NAFTA-TAA-03997; PL Industries, a/k/a PL Garment Finishers, McRae, GA: June 23, 1999.

NAFTA-TAA-03780; Smithville Sportswear, including Workers of Skilstaf, Inc., Smithville, TN: March 6, 1999.

NAFTA-TAA-3945; The Doe Run Resources Co., The Southeast Missouri Milling and Mining Div., Viburnum, MO: May 17, 1999.

NAFTA-TAA-04008; ITT Industries, Fluid Handling Systems, Tawas City, MI: June 24, 1999.

NAFTA-TAA-03890; Wheaton USA, Inc., Decora Operations, Pennsville, NJ: April 18, 1999.

NAFTA-TAA-03956; H. H. Rosinsky Company, Inc., Philadelphia, PA: May 30, 1999.

NAFTA-TAA-03991; Sims Deltec, Inc., St. Paul, MN: May 1, 1999.

NAFTA-TAA-03981; Thermadyne Holdings Corp., Tweco Products, Inc., Wichita, KS: May 31, 1999.

NAFTA-TAA-03859; ICI Explosives USA, Inc., Ammonium Nitrate Div., Joplin, MO: April 14, 1999.

NAFTA-TAA-03845; Honeywell International, Specialty Chemicals, Commercial Roofing Systems, Ironton, OH: April 12, 1999.

NAFTA-TAA-03912; The Kym Co., Jackson, GA: May 15, 1999.

NAFTA-TAA-03984; LaCrosse Footwear, Inc., Clintonville, WI: June 20, 1999.

I hereby certify that the aforementioned determinations were issued during the month of July, 2000. Copies of these determinations are available for inspection in Room C-4318, U.S. Department of Labor, 200 Constitution Avenue, NW., Washington, DC. 20210 during normal business hours or will be mailed to persons who write to the above address.

Dated: July 25, 2000.
Grant D. Beale,
Program Manager, Division of Trade Adjustment Assistance.

[FR Doc. 00-19402 Filed 7-31-00; 8:45 am]

BILLING CODE 4510-30-M